DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of RTCA Program Management Committee.

DATES: The meeting will be held June 18, 2015 from 8:30 a.m.-4:30 p.m.

ADDRESSES: The meeting will be held at RTCA, Inc., 1150 18th Street NW., Suite 910, Washington, DC, 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a Program Management Committee meeting. The agenda will include the following:

June 18th

• Welcome and Introductions

• Review/Approve Meeting Summary

○ March 24, 2015, RTCA Paper No. 119-15/PMC-1332

• Publication Consideration/Approval

○ Final Draft, Revised Document, DO-200A—Standards for Processing Aeronautical Data, prepared by SC-217.

○ Final Draft, Revised Document, DO-230D—Standard for Airport Security Access Control Systems, prepared by SC-224.

○ Final Draft, Revised Document, DO-311—Minimum Operational Performance Standards for Rechargeable Lithium Battery Systems, prepared by SC-225.

• Integration and Coordination Committee (ICC)

○ Task Status—SC-186/SC-227 A-IM Concept—Discussion.

• Action Item Review

○ PMC Ad Hoc—Standards Overlap and Alignment—Discussion—Workshop Status.

○ SC-229—406 MHz Emergency Locator Transmitters (ELTs)—Discussion—Coordination Status—Aircraft Tracking and In-Flight Triggering

○ SC-159—Global Positioning System—Discussion—Revised Terms of Reference (TOR)

• Discussion

○ SC-214—Standards for Air Traffic Data Communication Services—Discussion—Revised TOR

○ SC-217—Aeronautical Databases—Discussion—Revised TOR

○ Wake Vortex Tiger Team—Discussion—White Paper—Review/Approve

○ Minimum Operational Performance Standards for Small Cell Non-Rechargeable Lithium Batteries—Discussion—Possible New Special Committee to Revise RTCA DO-227

○ SC-233—Addressing Human Factors/Pilot Interface Issues for Avionics—Discussion—Document Table of Contents “Buckets”

○ Design Assurance Guidance for Airborne Electronic Hardware—Status—Possible New Special Committee to Update RTCA DO-254

○ SC-186—Automatic Dependent Surveillance-Broadcast—Discussion—BADA Testing Criteria/MITRE Software FastLicense

○ NAC—Status Update

○ FAA Actions Taken on Previously Published Documents—Report

○ Special Committees—Chairmen's Reports and Active Inter-Special Committee Requirements Agreements (ISRA)—Review

○ European/EUROCAE Coordination—Status Update

• Other Business

• Schedule for Committee Deliverables and Next Meeting Date

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 28, 2015.
Mohannad Dawoud,
Management Analyst, NextGen, Program Oversight and Administration, Federal Aviation Administration.

[FR Doc. 2015-13390 Filed 6-1-15; 8:45 am]

BILLING CODE 4910-13-P